SUSQUEHANNA RIVER BASIN COMMISSION

Public Hearing

AGENCY: Susquehanna River Basin Commission.

ACTION: Notice.

SUMMARY: The Susquehanna River Basin Commission will hold a public hearing on May 5, 2022. The Commission will hold this hearing in-person and telephonically. At this public hearing, the Commission will hear testimony on the projects listed in the Supplementary Information section of this notice. Such projects and proposals are intended to be scheduled for Commission action at its next business meeting, tentatively scheduled for June 16, 2022, which will be noticed separately. The public should take note that this public hearing will be the only opportunity to offer oral comment to the Commission for the listed projects and proposals. The deadline for the submission of written comments is May 16, 2022.

DATES: The public hearing will convene on May 5, 2022, at 6:30 p.m. The public hearing will end at 9:00 p.m. or at the conclusion of public testimony, whichever is earlier. The deadline for the submission of written comments is Monday, May 16, 2022.

ADDRESSES: This public hearing will be conducted in-person and telephonically. You may attend in person at Susquehanna River Basin Commission, 4423 N Front St, Harrisburg, Pennsylvania or join by Conference Call #: 1-888-387-8686, Conference Room #: 917 968 6050.

FOR FURTHER INFORMATION CONTACT: Jason Oyler, General Counsel and Secretary to the Commission, telephone: (717) 238-0423 or joyler@srbc.net.

Information concerning the applications for the projects is available at the Commission's Water Application and Approval Viewer at https://www.srbc.net/waav. Information concerning the proposals can be found at https://www.srbc.net/about/meetings-events/. Additional supporting documents are available to inspect and copy in accordance with the Commission's Access to Records Policy at www.srbc.net/regulatory/policies-guidance/docs/access-to-records-policy-2009-02.pdf.

SUPPLEMENTARY INFORMATION: The public hearing will cover the following projects:

Projects Scheduled for Action

1. Project Sponsor and Facility: Blackhill Energy LLC (Susquehanna River), Ulster Township, Bradford County, Pa. Application for surface water withdrawal of up to 3.024 mgd (peak day).

2. Project Sponsor and Facility: Chesapeake Appalachia, L.L.C. (Susquehanna River), Mehoopany Township, Wyoming County, Pa. Application for renewal of surface water withdrawal of up to 0.999 mgd (peak day) (Docket No. 20170603).

3. Project Sponsor and Facility: Chesapeake Appalachia, L.L.C. (Susquehanna River), Wysox Township, Bradford County, Pa. Application for renewal of surface water withdrawal of up to 0.999 mgd (peak day) (Docket No. 20170604).

4. Project Sponsor and Facility: Chesapeake Appalachia, L.L.C. (Wyalusing Creek), Rush Township, Susquehanna County, Pa. Application for renewal of surface water withdrawal of up to 0.715 mgd (peak day) (Docket No. 20170605).

5. Project Sponsor: Corning Incorporated. Project Facility: Houghton Park, City of Corning, Steuben County, N.Y. Application for renewal of groundwater withdrawal of up to 1.080 mgd (30-day average) from Well 5 (Docket No. 19970503).

6. Project Sponsor and Facility: East Cocalico Township Authority, East Cocalico, West Cocalico, and Brecknock Townships, Lancaster County, Pa. Applications for renewal of groundwater withdrawals (30-day averages) of up to 0.081 mgd from Well 11, 1.150 mgd from Well F, and 1.395 mgd from Well M (Docket Nos. 19920702 and 20070606).

7. Project Sponsor: Golf Acres, Inc. Project Facility: Chapel Hill Golf Course (Little Muddy Creek), Spring Township, Berks County, Pa. Applications for surface water withdrawal of up to 0.180 mgd (peak day) and consumptive use of up to 0.162 mgd (peak day).

8. Project Sponsor and Facility: Hydrage, LLC, East Union and Mahanoy Townships, Schuylkill County, Pa. Application for renewal of consumptive use of up to 0.200 mgd (peak day) (Docket No. 20070603).

9. Project Sponsor and Facility: Lykens Valley Golf Course & Resort Inc (unnamed tributary to Wiconisco Creek), Upper Paxton Township, Dauphin County, Pa. Applications for renewal of surface water withdrawal of up to 0.200 mgd (peak day) and consumptive use of up to 0.200 mgd (peak day) (Docket No. 20080614).

10. Project Sponsor and Facility: Municipal Authority of the Township of East Hempfield dba Hempfield Water Authority, East Hempfield Township, Lancaster County, Pa. Applications for renewal of groundwater withdrawals (30-day averages) of up to 0.353 mgd from Well 6, 0.145 mgd from Well 7, 1.447 mgd from Well 8, and 1.800 mgd from Well 11, and Commission-initiated modification to Docket No. 20120906, which approves withdrawals from Wells 1, 2, 3, 4, and 5 and Spring S-1 (Docket Nos. 19870306, 19890503, 19930101, and 20120906).

11. Project Sponsor: New Enterprise Stone & Lime Co., Inc. Project Facility: Tyrone Quarry, Warriors Mark Township, Huntingdon County, Pa. Application for groundwater withdrawal of up to 0.173 mgd (30-day average) from Well MW-36B and modification to increase consumptive use (peak day) by an additional 0.238 mgd, for a total consumptive use of up to 0.532 mgd (Docket No. 20031205).

12. Project Sponsor and Facility: Repsol Oil & Gas USA, LLC (Towanda Creek), Franklin Township, Bradford County, Pa. Application for renewal of surface water withdrawal of up to 1.000 mgd (peak day) (Docket No. 20170611).

13. Project Sponsor and Facility: Shrewsbury Borough, Shrewsbury Township and Shrewsbury Borough, York County, Pa. Applications for renewal of groundwater withdrawals (30-day averages) of up to 0.099 mgd from the Meadow Well and 0.180 mgd from the Village Well (Docket Nos. 19890501 and 19900105).

14. Project Sponsor: SUEZ Water Pennsylvania Inc. Project Facility: Grantham Operation, Upper Allen Township, Cumberland County, Pa. Application for renewal of groundwater withdrawal of up to 0.395 mgd (30-day average) from Well 2 (Docket No. 19901104).

15. Project Sponsor and Facility: SWN Production Company, LLC (Susquehanna River), Oakland Township, Susquehanna County, Pa. Application for surface water withdrawal of up to 3.000 mgd (peak day).

16. Project Sponsor and Facility: Town of Kirkwood, Broome County, N.Y. Application for renewal of groundwater withdrawal of up to 0.841 mgd (30-day average) from Well 3 (Docket No. 19920304).

17. Project Sponsor and Facility: Village of Canisteo, Steuben County, N.Y. Application for renewal of groundwater withdrawal of up to 0.499 mgd (30-day average) from Well 2 (Docket No. 19950902).

18. Project Sponsor: Vulcan Construction Materials, LLC. Project Facility: Havre de Grace Quarry (Susquehanna River), Havre de Grace District, Harford County, Md. Applications for renewal of surface water withdrawal of up to 0.234 mgd (peak day) and consumptive use of up to 0.823 mgd (peak day) (Docket No. 19920105).

Project Scheduled for Action Involving a Diversion

19. Project Sponsor and Facility: Patrick Hoopes Trucking, Inc., Eulalia Township, Potter County, Pa. Application for an into-basin diversion from the Ohio River Basin of up to 1.000 mgd (peak day) from the Allegheny River.

Commission Initiated Project Approval Modification

20. Project Sponsor and Facility: Lebanon Valley College, Annville and North Annville Townships, Lebanon County, Pa. Conforming the grandfathered amount with the forthcoming determination for groundwater withdrawals (30-day averages) of up to 0.019 mgd from the Football Well, 0.044 mgd from the Baseball Well, and 0.042 mgd from the West (Soccer) Well, as well as modify monitoring and reporting requirements for the project (Docket No. 20030409).

Opportunity To Appear and Comment

Interested parties may call into the hearing to offer comments to the Commission on any business listed above required to be the subject of a public hearing. Given the nature of the meeting, the Commission strongly encourages those members of the public wishing to provide oral comments to pre-register with the Commission by emailing Jason Oyler at joyler@srbc.net prior to the hearing date. The presiding officer reserves the right to limit oral statements in the interest of time and to otherwise control the course of the hearing. Access to the hearing via telephone will begin at 6:15 p.m. Guidelines for the public hearing are posted on the Commission's website, www.srbc.net, prior to the hearing for review. The presiding officer reserves the right to modify or supplement such guidelines at the hearing. Written comments on any business listed above required to be the subject of a public hearing may also be mailed to Mr. Jason Oyler, Secretary to the Commission, Susquehanna River Basin Commission, 4423 North Front Street, Harrisburg, Pa. 17110-1788, or submitted electronically through https://www.srbc.net/regulatory/public-comment/. Comments mailed or electronically submitted must be received by the Commission on or before May 16, 2021, to be considered.

Authority: Pub. L. 91-575, 84 stat. 1509 et seq., 18 CFR parts 806, 807, and 808.

Dated: April 8, 2022.
Jason E. Oyler,
General Counsel and Secretary to the Commission.

[FR Doc. 2022-07882 Filed 4-12-22; 8:45 am]

BILLING CODE 7040-01-P